DEPARTMENT OF LABOR

Employment and Training Administration

American Reinvestment and Recovery Act of 2009; Notice of Availability of Funds and Solicitation for Grant Applications for Green Capacity Building Grants

Announcement Type: Notice of Solicitation for Grant Applications.

Funding Opportunity Number: SGA/DFA PY-08-21.

Catalog of Federal Domestic Assistance (CFDA) Number: 17.275.

DATES: Key Dates: The closing date for receipt of applications under this announcement is August 5, 2009. Applications must be received no later than 4 p.m. Eastern Time. A pre-recorded Webinar will be made available online at http://www.workforce3one.org to prospective applicants for this grant competition on July 10, 2009 by 3 p.m. Eastern Time, and will be available for viewing anytime after that date as well. While a review of this webinar is encouraged, it is not mandatory. Access information for the Webinar will be posted on the Employment and Training Administration (ETA) Web site listed above.

ADDRESSES: Mailed applications must be addressed to the U.S. Department of Labor, Employment & Training Administration, Division of Federal Assistance, Attention: B. Jai Johnson, Grants Officer, Reference SGA/DFA PY 08-21, 200 Constitution Avenue, NW., Room N4716, Washington, DC 20210. For complete “Application and Submission Information,” please refer to Section IV.

SUMMARY: Under the American Recovery and Reinvestment Act of 2009 (the Recovery Act), the Department of Labor (DOL or the Department) announces the availability of approximately $5 million in grant funds for projects that build the capacity of DOL-funded training programs to ensure that targeted groups are prepared to meet the needs of our country's expanding green industries. Only active DOL-funded grantees specified in Part III of this SGA are eligible to apply. Specifically, this SGA supports capacity building for organizations to provide training for entry-level positions leading to career pathways and/or additional training in the energy efficiency and renewable energy industries described in Section 171(e)(1)(B) of the Workforce Investment Act of 1998 (WIA). The Department expects to award between 50 and 100 grants under this competition, providing awards ranging from $50,000 to $100,000.

SUPPLEMENTARY INFORMATION:

A. Recovery Act: Competitive Grants for Green Job Training

This section of the SGA provides general background on the American Recovery and Reinvestment Act of 2009 (Recovery Act), the competitive grants funded through the Recovery Act to prepare workers for careers in the energy efficiency and renewable energy, and the occupations and industries on which these grants should focus. On February 17, 2009, President Barack Obama signed into law the American Recovery and Reinvestment Act of 2009 (Recovery Act) through which Congress intended to preserve and create jobs, promote the nation's economic recovery, and assist those most impacted by the recession. Among other funding directed toward the Department of Labor, the Recovery Act provides $750 million for a program of competitive grants for worker training and placement in high growth and emerging industries. Of the $750 million allotted for competitive grants, the Recovery Act designates $500 million for projects that prepare workers for careers in the energy efficiency and renewable energy industries described in Section 171(e)(1)(B) of the Workforce Investment Act (WIA). DOL intends to use a portion of the $500 million for providing technical assistance for this program of grants.

The purpose of these green job training grants is to teach workers the skills required in emerging energy efficiency and renewable energy industries. These efforts will lead program participants to job placement while leveraging other Recovery Act investments intended to create jobs and promote economic growth. For additional information about the series of competitive grants for green job training, please refer to Training and Employment Notice (TEN) 44-08 available at http://www.doleta.gov/Recovery/legislation.cfm.

B. Green Industries and Occupations

The Department will award grants to workforce development projects that focus on connecting target populations, including auto and auto-related industry workers affected by significant automotive-related restructurings, to career pathways in green industries. Training programs will prepare individuals for careers in any of the seven energy efficiency and renewable energy industries defined in Section 171(e)(1)(B)(ii) of the WIA, which include:

• The energy-efficient building, construction, and retrofit industries;

• The renewable electric power industry;

• The energy efficient and advanced drive train vehicle industry;

• The biofuels industry;

• The deconstruction and materials use industries;

• The energy efficiency assessment industry serving residential, commercial, or industrial industries; and

• Manufacturers that produce sustainable products using environmentally sustainable processes and materials.

Additionally, the Department is interested in applicants contributing to our understanding of green industries and jobs that clean and enhance our environment. Initial research supported by the Department shows that there are “growth, enhanced and emerging” green occupations across a number of industries. Applicants may propose strategies that train for those occupations from among the following industries: Transportation; green construction; environmental protection; sustainable agriculture including healthy food production; forestry; and recycling and waste reduction (see O*NET report at http://www.onetcenter.org/reports/Green.html). The Department will consider proposals that focus on these occupations within these industries if applicants can offer supporting data demonstrating these are emerging industries which are producing jobs in their communities.

For the purpose of the SGAs, the Department defines energy efficiency and renewable energy as follows. Section 203(b)(2) of the Energy Policy Act of 2005, Public Law 109-58, 119 Stat. 595, defines “renewable energy” as “electric energy generated from solar, wind, biomass, landfill gas, ocean (including tidal, wave, current, and thermal), geothermal, municipal solid waste, or new hydroelectric generation capacity achieved from increased efficiency or additions of new capacity at an existing hydroelectric project.” “Energy efficiency” can be broadly defined as programs aimed at mitigating the use of energy, reducing harmful emissions, and decreasing overall energy consumption.

The Department of Labor's Bureau of Labor Statistics (BLS) is working to develop a definition for green industries and jobs, which will be used to ensure that workforce development efforts identify and target these green jobs and their training needs. The Department has also supported occupational research that begins to define green jobs, review industries impacted by green investments and understand how new green technology and materials will affect occupational requirements. The Occupational Information Network (O*NET) project has drafted a research paper titled, Greening of the World of Work: Implications for O*NET-SOC and New and Emerging Occupations. This study reflects three general categories of occupations, based on different consequences of green economy activities and technologies: (1) Existing occupations expected to experience primarily an increase in employment demand; (2) existing occupations with significant change to the work and worker requirements; and (3) new and emerging green occupations. This research may be used as a starting point for identifying green industries and occupations and informing the development of training and job placement programs. For a copy of the O*NET report and a listing of the identified occupations go to http://www.onetcenter.org/reports/Green.html.

C. Working With Other Recovery Act Programs

The Recovery Act made funds available to a number of other Federal programs that will impact the creation and expansion of green jobs. DOL is partnering with other Federal agencies to support the creation of jobs by developing a pipeline of skilled workers in the energy efficiency and renewable energy industries. Where possible, ETA encourages applicants to connect their workforce development strategies to other Recovery Act funded projects that create jobs or impact the skill requirements of existing jobs. ETA recommends that applicants review other parts of the Recovery Act, with a focus on the activities funded through the Department of Energy (Energy), the Environmental Protection Agency (EPA), the Department of Housing and Urban Development (HUD), the Department of Transportation (DOT), the Department of Education (Education) and others. For additional resources and information about our Federal partners, please see Section VIII, “Additional Resources of Interest to Applicants.”

I. Funding Opportunity Description

Through this SGA, ETA will help individuals acquire the skills needed to enter and advance in green industries and occupations by building the capacity of active DOL-funded training programs to provide education and training in the key skills and competencies that are needed in these green industries and occupations.

Specifically, this SGA supports capacity building for organizations to provide training for entry-level positions leading to career pathways and/or additional training in the energy efficiency and renewable energy industries, as well as other green occupations within the detailed list of industries specified in Supplementary Information: Part B of this SGA. Grantees may bolster the capacity of their training programs through the purchase of equipment, staff professional development, curriculum development and/or adaptation, partnership development, and where necessary, the hiring of additional staff. Organizations that have already begun the integration of energy efficiency and renewable energy industries and other green job-related skill training into their programs may apply for funds to enhance their current efforts. These awards do not require an increase in enrollment in the existing DOL-funded training program. These funds will help organizations in building the infrastructure necessary to provide on-going training and job placement into green jobs after the grant funds have been expended.

It is critical that grantees consult with key industry and other stakeholders about current and future workforce needs. Further, grantees should work with key partners (described in Section V.A.1) to determine the specific enhancements they should make to their training programs.

Applicants are not limited in the strategies and approaches they may use to implement projects in this SGA, provided that the strategy is well developed, includes a strong partnership, and focuses on training to prepare workers for employment in the occupations and industries identified in Supplementary Information: Part B of this SGA, subject to funding restrictions described in this SGA and the grant agreement. Increasing the capacity of DOL grantees will enable them to provide training for green industries and occupations through their existing DOL grants, and support green jobs-related projects funded through the Recovery Act and from other sources.

II. Award Information

A. Award Amount

Approximately $5 million is available to fund Green Capacity Building grants. The Department expects to award between 50 and 100 grants under this competition, providing awards ranging from $50,000 to $100,000. This does not preclude funding a smaller or larger number of projects, based on the type and the number of quality submissions.

B. Period of Performance

The period of grant performance will be up to 12 months from the date of execution of the grant documents. This performance period includes all necessary implementation and start-up activities. The Department intends for all grantees funded under this SGA to implement projects as soon as possible. Further, applicants should plan to fully expend grant funds during the period of performance, while ensuring full transparency and accountability for all expenditures.

III. Eligibility Information

A. Eligible Applicants

DOL intends to build the green training capacity of our current grantees, therefore, eligible applicants are limited to the following DOL grantees who received funding through the SGA number indicated in the parentheses: Indian and Native American Program (SGA/DFA PY 07-04), National Farmworker Jobs Program (NFJP) (SGA/DFA PY 06-04), Prisoner Re-Entry Initiative (PRI) (SGA/DFA PY 08-03 & SGA/DFA PY 07-05), Senior Community Service Employment Program (SCSEP) (SGA/DFA PY 07-02 & SGA/DFA PY 05-06), Women in Apprenticeship and Non-Traditional Occupations (WANTO) (SGA/DFA PY 07-08 & SGA/DFA PY 06-01), Advancing Registered Apprenticeship into the 21st Century: Collaborating for Success (SGA/DFA PY 08-11), YouthBuild (SGA/DFA PY 08-07 & SGA/DFA PY 06-08), and Young Offender Grants (SGA/DFA PY 08-09, SGA/DFA PY 06-10, & SGA/DFA PY 06-14).

Organizations with multiple DOL-funded training programs may only submit one application. That application should indicate which DOL-funded program(s) will be enhanced through capacity building activities supported by this Solicitation.

B. Cost Sharing

Cost sharing or matching funds are not required as a condition for application.

C. Other Eligibility Requirements

1. Participants Eligible to Receive Training

Grantees must use these grants to enhance their capacity to serve individuals who meet the eligibility requirements of their programs who need training in green industries and occupations. Given the participants that they serve through their existing grants, grantees should give priority for training and other services provided through these grants to individuals in the following categories:

• Workers impacted by national energy and environmental policy;

• Individuals in need of updated training related to the energy efficiency and renewable energy industries;

• Veterans;

• Unemployed individuals;

• Individuals, including at-risk youth, seeking employment pathways out of poverty and into economic self-sufficiency; and

• Individuals with a criminal record.

Other individuals, such as untapped labor pools and entry-level and incumbent workers that do not fit into the categories above, may also be served through these projects subject to the priority considerations given to the populations above and consistent with the populations to be served through the grantee's statements of work for their existing grant(s). For specific definitions for these target populations, applicants must refer to Section VI.B.

2. Veterans Priority

The Jobs for Veterans Act (Pub. L. 107-288) provides priority of service to veterans and spouses of certain veterans for the receipt of employment, training, and placement services in any job training program directly funded, in whole or in part, by DOL. Grantees are required to provide priority of services for veterans and eligible spouses pursuant to 20 CFR part 1010, the regulations implementing priority of service for veterans and eligible spouses in Department of Labor job training programs under the Jobs for Veterans Act published at 73 FR 78132 on December 19, 2008. In circumstances where a grant recipient must choose between two equally qualified candidates for training, one of whom is a veteran, the Jobs for Veterans Act requires that grant recipients give the veteran priority of service by admitting him or her into the program. Please note that to obtain priority of service a veteran must meet the program's eligibility requirements. Grantees must comply with DOL guidance on veterans' priority. Currently, ETA Training and Employment Guidance Letter (TEGL) No. 5-03 (September 16, 2003) provides general guidance on the scope of the Job for Veterans Act and its effect on current employment and training programs. TEGL No. 5-03, along with additional guidance, is available at the “Jobs for Veterans Priority of Service” Web site: http://www.doleta.gov/programs/vets.

3. Grantee Training

Grantees are required to participate in all ETA training activities related to orientation, financial management and reporting, performance reporting, product dissemination, and other technical assistance training as appropriate during the life of the grant. These trainings may occur via conference call, webinar, and in-person meetings. For budgeting purposes, grant recipients should allocate adequate staff time and travel resources to ensure participation at a two-day in-person event.

IV. Application and Submission Information

A. How to Obtain an Application Package

This SGA contains all the information and links to forms needed to apply for this funding opportunity.

B. Content and Form of Application Submission

The proposal will consist of three separate and distinct parts—(I) a cost proposal, (II) a technical proposal, and (III) attachments to the technical proposal. Applications that fail to adhere to the instructions in this section will be considered non-responsive and will not be reviewed. Please note that it is the applicant's responsibility to ensure that the amount of funds requested is consistent across all parts and sub-parts of the application.

Part I. The Cost Proposal. The Cost Proposal must include the following four items:

• The Standard Form (SF) 424, “Application for Federal Assistance” (available at http://www07.grants.gov/agencies/forms_repository_information.jsp and http://www.doleta.gov/grants/find_grants.cfm). The SF 424 must clearly identify the applicant and be signed by an individual with authority to enter into a grant agreement. Upon confirmation of an award, the individual signing the SF 424 on behalf of the applicant shall be considered the authorized representative of the applicant.

• Applicants must supply their D-U-N-S® Number on the SF 424. All applicants for Federal grant and funding opportunities are required to have a D-U-N-S® Number (Data Universal Numbering System). See Office of Management and Budget (OMB) Notice of Final Policy Issuance, 68 FR 38402, Jun. 27, 2003. The D-U-N-S® Number is a non-indicative, nine-digit number assigned to each business location in the D&B database having a unique, separate, and distinct operation, and is maintained solely by D&B. The D-U-N-S® Number is used by industries and organizations around the world as a global standard for business identification and tracking. If you do not have a D-U-N-S® Number, you can get one for free through the SBS site: http://smallbusiness.dnb.com/webapp/wcs/stores/servlet/Glossary?fLink=glossary&footerflag=y&storeId=10001&indicator=7.

• The SF 424A Budget Information Form (available at http://www07.grants.gov/agencies/forms_repository_information.jsp and http://www.doleta.gov/grants/find_grants.cfm). In preparing the Budget Information Form, the applicant must provide a concise narrative explanation to support the request, explained in detail below.

• Budget Narrative: The budget narrative must provide a description of costs associated with each line item on the SF-424A. In addition, the applicant should address precisely how the administrative costs support the project goals. The entire Federal grant amount requested should be included on both the SF 424 and SF 424A. Please note that applicants that fail to provide a SF 424, a SF 424A, a D-U-N-S® Number, and a budget narrative will be removed from consideration prior to the technical review process.

• Applicants are also encouraged, but not required, to submit OMB Survey N. 1890-0014: Survey on Ensuring Equal Opportunity for Applicants, which can be found under the Grants.gov, Tips and Resources From Grantors, Department of Labor section at http://www07.grants.gov/applicants/tips_resources_from_grantors.jsp#13 (also referred to as Faith Based EEO Survey PDF Form).

Part II. The Technical Proposal. The Technical Proposal will demonstrate the applicant's capability to implement the grant project in accordance with the provisions of this solicitation. The guidelines for the content of the Technical Proposal are provided in Part V.A of this SGA. The Technical Proposal is limited to 12 double-spaced single-sided pages with 12 point text font and 1 inch margins. Any materials beyond the 12-page limit will not be reviewed. Applicants should number the Technical Proposal beginning with page number 1. Applicants that do not provide Part II, the Technical Proposal of the application will be removed from consideration prior to the technical review process. Applications that do not meet these requirements will not be considered.

Part III. Attachments to the Technical Proposal. In addition to the 12-page Technical Proposal, the applicant must submit an Abstract, not to exceed one page, summarizing the proposed project including the applicant name, project title, a description of the area to be served, and the funding level requested. The one-page abstract does not count against the 12-page limit for the Technical Proposal. Additional materials such as resumes or general letters of support or commitment will not be read.

Applications may be submitted electronically on Grants.gov or in hardcopy via mail or hand delivery. These processes are described in further detail in Section IV.C. Applicants submitting proposals in hardcopy must submit an original signed application (including the SF 424) and one (1) “copy-ready” version free of bindings, staples or protruding tabs to ease in the reproduction of the proposal by DOL. Applicants submitting proposals in hardcopy are also required to provide an identical electronic copy of the proposal on compact disc (CD).

C. Submission Process, Date, Times, and Addresses

The closing date for receipt of applications under this announcement is August 5, 2009. Applications must be received at the address below no later than 4 p.m. Eastern Time. Applications sent by e-mail, telegram, or facsimile (FAX) will not be accepted. Applications that do not meet the conditions set forth in this notice will not be honored. No exceptions to the mailing and delivery requirements set forth in this notice will be granted.

Mailed applications must be addressed to the U.S. Department of Labor, Employment and Training Administration, Division of Federal Assistance, Attention: B. Jai Johnson, Grant Officer, Reference SGA/DFA, PY 08-21, 200 Constitution Avenue, NW., Room N4716, Washington, DC 20210. Applicants are advised that mail delivery in the Washington area may be delayed due to mail decontamination procedures. Hand-delivered proposals will be received at the above address. All applications through professional overnight delivery service will be considered to be hand-delivered and must be received at the designated place by the specified closing date and time.

Applicants may apply online through Grants.gov (http://www.grants.gov); however, due to the expected increase in system activity resulting from the American Recovery and Reinvestment Act of 2009, applicants are encouraged to use an alternate method to submit grant applications during this heightened period of demand. While not mandatory, DOL encourages the submission of applications through professional overnight delivery service.

Applications that are submitted through Grants.gov must be successfully submitted at http://www.grants.gov no later than 4 p.m. Eastern Time on August 5, 2009, and then subsequently validated by Grants.gov. The submission and validation process is described in more detail below. The process can be complicated and time-consuming. Applicants are strongly advised to initiate the process as soon as possible and to plan for time to resolve technical problems if necessary.

It is strongly recommended that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is strongly recommended that applicants use the “Organization Registration Checklist” at http://www.grants.gov/assets/Organization_Steps_Complete_Registration.pdf to ensure the registration process is complete.

Within two business days of application submission, Grants.gov will send the applicant two email messages to provide the status of application progress through the system. The first email, almost immediate, will confirm receipt of the application by Grants.gov. The second email will indicate the application has either been successfully validated or has been rejected due to errors. Only applications that have been successfully submitted and successfully validated will be considered. It is the sole responsibility of the applicant to ensure a timely submission; therefore sufficient time should be allotted for submission (two business days) and, if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent our ability to consider the application. ETA will attempt to open the document but will not take any additional measures in the event of issues with opening. In such cases, the non-conforming application will not be considered for funding.

Applicants are strongly advised to utilize the tools and documents, including FAQs, that are available on the “Applicant Resources” page at http://www.grants.gov/applicants/app_help_reso.jsp#faqs. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail support@grants.gov.

Late Applications: For applications submitted on Grants.gov, only applications that have been successfully submitted no later than 4 p.m. Eastern Time on the closing date and successfully validated will be considered.

Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day prior to the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review

This funding opportunity is not subject to Executive Order 12372, “Intergovernmental Review of Federal Programs.”

E. Funding Restrictions

Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

1. Indirect Costs

As specified in OMB Circular Cost Principles, indirect costs are those that have been incurred for common or joint objectives and cannot be readily identified with a particular final cost objective. In order to utilize grant funds for indirect costs incurred, the applicant must obtain an Indirect Cost Rate Agreement with its Federal cognizant agency either before or shortly after grant award.

2. Administrative Costs

Under this SGA, an entity that receives a grant to carry out a project or program may not use more than 5 percent of the amount of the grant to pay administrative costs associated with the program or project. Administrative costs could be direct or indirect costs, and are defined at 20 CFR 667.220. Administrative costs do not need to be identified separately from program costs on the SF 424A Budget Information Form. They should be discussed in the budget narrative and tracked through the grantee's accounting system. To claim any administrative costs that are also indirect costs, the applicant must obtain an Indirect Cost Rate Agreement from its Federal cognizant agency.

3. Use of Funds for Supportive Services

Grant funds may not be used for supportive services.

4. Salary and Bonus Limitations

Under Public Law 109-234 and Public Law 111-8, Section 111, none of the funds appropriated in Public Law 111-5 or prior Acts under the heading “Employment and Training” that are available for expenditure on or after June 15, 2006, shall be used by a recipient or sub-recipient of such funds to pay the salary and bonuses of an individual, either as direct costs or indirect costs, at a rate in excess of Executive Level II. These limitations also apply to grants funded under this SGA. The salary and bonus limitation does not apply to vendors providing goods and services as defined in OMB Circular A-133. See Training and Employment Guidance Letter number 5-06 for further clarification: http://wdr.doleta.gov/directives/corr_doc.cfm?DOCN=2262.

5. Intellectual Property Rights

The Federal Government reserves a paid-up, nonexclusive and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

If applicable, the following needs to be on all products developed in whole or in part with grant funds:

“This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.”

F. Use of Funds for Wage Subsidies

Grant funds awarded through this SGA shall not be used to subsidize the wages of program participants.

G. Other Submission Requirements

Withdrawal of Applications: Applications may be withdrawn by written notice at any time before an award is made.

V. Application Review Information

A. Evaluation Criteria

Criterion | Points
1. Capacity Building Rationale | 20
2. Strategy and Project Work Plan | 65
i. Organizational capacity—10
ii. Proposed strategies—55
3. Outcomes and Deliverables | 15
Total Points | 100

Applicants will be evaluated on the completeness and quality of their submission. A total of 100 points may be achieved in accordance with the criteria articulated below. This section identifies and describes the criteria that will be used to evaluate the grant proposals. These criteria and point values are:

1. Capacity Building Rationale (20 Points)

The applicant must fully demonstrate that the proposed activities build capacity to deliver training and/or related services that are responsive to local or State green industry needs, and, if applicable are linked to overall green industry economic development efforts under way in the region, State, or community. Applicants should provide a complete description of the industries and occupations within those industries that the training will target, as well as the rationale for targeting industries and occupations, and outline the involvement of key organizations in informing capacity building activities.

Applicants should also fully describe how key organizations such as the State and local workforce system, employers and industry-related organizations (e.g., trade associations, labor organizations, labor-management organizations), educational institutions, regional, State, or local consortiums or organizations that focus on green industries and occupations, foundations, research laboratories, and other key stakeholders in green initiatives have informed the proposed capacity building activities. Please describe which entities have and will be involved in all aspects of the project and how they have informed and enriched the process. Please describe how they are part of your region, State, and/or local strategy for energy efficiency and/or renewable energy job creation, green job training, and green economic development. Proposals will be evaluated using the following criteria:

i. Applicants must fully describe the specific industries and occupations on which their training will focus, including the specific knowledge, skills, and/or abilities required by the occupation.

ii. Applicants must demonstrate evidence of region, State, and/or local green industry need for training and, if applicable, how the proposed project is linked to green economic development efforts; and,

iii. Applicants must detail the role that key organizations have played or will play in determining the proposed enhancements and capacity building activities in your existing job training and placement programs.

2. Strategy and Project Work Plan (65 Points)

In this section the applicant must fully describe the activities that it will undertake to build or enhance the capacity of its organization to provide skills training for the target industries and occupations through its existing job training and placement programs, and their capacity for implementing these activities. This will ensure that targeted groups are prepared to meet the needs of our country's expanding green jobs-related industries.

Project activities leading to degrees and certificates must identify the degrees and certificates that participants will earn as a result of the proposed training, and the employer-, industry-, or State-defined standards associated with the degrees and certificates (See Section VI.B.3.ii for the definition of certificate).

i. Organizational Capacity (10 Points)

Applicant should fully demonstrate that they have the ability to implement and manage the capacity building activities described in this proposal. This includes providing a complete description of the applicant organization and its qualifications for running a job training and placement program. Applicants should describe the relevant experience of key staff and continuity of leadership, their ability to comply with the grant's fiscal and administrative requirements, and their capacity to track and report on the grant's programmatic performance. Applicants must indicate the duration of the job training and placement activities that will be offered once the capacity building activities/strategies described in this application are completed. Proposals will be evaluated using the following criteria:

• The demonstration by the applicant that they have the capacity to accomplish the goals and outcomes of the project as demonstrated by the experience of the key staff and continuity of leadership;

• The demonstration by the applicant that they have the capacity to comply with the grant's fiscal and administrative requirements, and to track and report on the grant's programmatic performance.

ii. Proposed Capacity Building Strategies (55 Points)

In this section, the applicant should provide a complete description of how it will modify all or a portion of its existing job training and placement programs to support skills training for the energy efficiency and renewable energy industries or within other green industries. ETA is interested in applicants describing any evidence-based research that they considered in designing the strategy. Some potential activities include but are not limited to:

• Professional development opportunities in the energy efficiency and renewable energy industries for staff;

• Modifications to existing curriculum and/or teaching methodologies;

• The purchase of equipment that will contribute to continued training after the funding under this award is expended;

• Training provided for industry-recognized entry-level credentials for program participants;

• Strategies that support the development of clear pathway options and job placement for program participants into the energy efficiency and renewable energy industries or within other green industries; and

• Specific skills and competencies that will be integrated into the job-training program and how these support growth in green energy career pathways for project participants.

Proposals will be evaluated using the following criteria:

• Applicants should provide a complete description of their capacity building activities including (1) professional development opportunities in the energy efficiency and renewable energy industries or within other green industries provided to key staff; (2) key equipment that will build the capacity of the organization to provide training in the key industries and occupations; and (3) curriculum and/or teaching methodology modifications based on input from partners identified in Section V.A.1;

• Applicant shall provide a description of the industry recognized credentials (if applicable) to be awarded and how training for these credentials will be provided to program participants;

• Applicant shall demonstrate that the skills and competencies integrated into existing training programs are related to the proposed industry or occupation targeted.

• Applicants should provide a complete description of their strategy to sustain the core training and placement activities in their project after grant funds are expended.

• Applicants should provide a timeline that outlines a schedule for the key capacity building activities that will take place during the period of performance.

3. Outcomes and Deliverables (15 Points)

Applicants must demonstrate a results-oriented approach to managing and operating their project by fully describing the proposed outcome data measures that impact the success of the project, as well as the products and deliverables that will be produced as a result of the grant activities. In this section, applicants should identify specific outcomes that will occur as a direct result of grant-funded activities and how appropriate outcomes will be tracked. Points will be awarded based on the criteria below.

The applicant should list outcomes for capacity building activities, and the projected date the product(s) will be completed. Outcomes for capacity building activities include, but are not limited, to:

• Curriculum, course materials or competency models and career ladders developed or updated with grant funds;

• The number of instructors projected to participate in capacity building activities;

• The number of individuals projected to be trained by these instructors; and

• The estimated number of other individuals (besides these students and instructors) projected to participate and/or benefit from capacity building activities. For example, the number of individuals who will use equipment purchased through this grant.

If applicable, applicants must provide a list of expected deliverables that will be developed with grant funds during the grant's period of performance that is consistent with the project activities that includes a brief description of the deliverable (such as updated curriculum and outreach materials), the anticipated completion date, and an estimated timeframe and method for electronic delivery to ETA. Electronic delivery may include email for smaller documents, DVDs or other electronic media for transmission of larger files.

B. Review and Selection Process

Applications for grants under this solicitation will be accepted after the publication of this announcement until the closing date. A technical review panel will make careful evaluation of applications against the criteria. These criteria are based on the policy goals, priorities, and emphases set forth in this SGA. Up to 100 points may be awarded to an application, based on the required information described in Section V.A. The ranked scores will serve as the primary basis for selection of applications for funding, in conjunction with other factors such as urban, rural, and geographic balance; representation across eligible grant programs; and which proposals are most advantageous to the government. The panel results are advisory in nature and not binding on the Grant Officer, and the Grant Officer may consider any information that comes to his/her attention. The government may elect to award the grant(s) with or without discussions with the applicants. Should a grant be awarded without discussions, the award will be based on the applicant's signature on the SF 424, which constitutes a binding offer by the applicant including electronic signature via E-Authentication on http://www.grants.gov.

VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions:

i. Non-Profit Organizations—OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR part 95 (Administrative Requirements).

v. All entities must comply with 29 CFR parts 93 and 98, and, where applicable, 29 CFR parts 96 and 99.

vi. 29 CFR part 2, subpart D—Equal Treatment in Department of Labor Programs for Religious Organizations, Protection of Religious Liberty of Department of Labor Social Service Providers and Beneficiaries.

vii. 29 CFR part 31—Nondiscrimination in Federally Assisted Programs of the Department of Labor—Effectuation of Title VI of the Civil Rights Act of 1964.

viii. 29 CFR part 32—Nondiscrimination on the Basis of Handicap in Programs and Activities Receiving or Benefiting from Federal Financial Assistance.

ix. 29 CFR part 33—Enforcement of Nondiscrimination on the Basis of Handicap in Programs or Activities Conducted by the Department of Labor.

x. 29 CFR part 35— Nondiscrimination on the Basis of Age in Programs or Activities Receiving Federal Financial Assistance from the Department of Labor.

xi. 29 CFR part 36—Nondiscrimination on the Basis of Sex in Education Programs or Activities Receiving Federal Financial Assistance.

The following administrative standards and provisions may be applicable

i. The American Recovery and Reinvestment Act of 2009, Public Law 111-5, 123 Stat. 115, Division A, Title VIII (February 17, 2009).

ii. The Green Jobs Act of 2007, Public Law 110-140, 121 Stat. 1748 (codified at 29 U.S.C. 2916).

iii. The Workforce Investment Act of 1998, Public Law 105-220, 112 Stat. 939 (codified as amended at 29 U.S.C. 2801 et seq.) and 20 CFR part 667 (General Fiscal and Administrative Rules;

iv. 29 CFR part 29 & 30—Apprenticeship & Equal Employment Opportunity in Apprenticeship and Training;

v. 29 CFR part 37—Implementation of the Nondiscrimination and Equal Opportunity Provisions of the Workforce Investment Act of 1998:

• The Department notes that the Religious Freedom Restoration Act (RFRA), 42 U.S.C. sec. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

vi. Ensuring the Health and Safety of Participants Under WIA Section 181(a)(4)—Health and safety standards established under Federal and State law otherwise applicable to working conditions of employees are equally applicable to working conditions of participants engaged in training and other activities. Applicants that are awarded grants through this SGA are reminded that these health and safety standards apply to participants in these grants.

In accordance with Section 18 of the Lobbying Disclosure Act of 1995 (Pub. L. 104-65) (2 U.S.C. 1611) non-profit entities incorporated under Internal Revenue Service Code section 501(c)(4) that engage in lobbying activities are not eligible to receive Federal funds and grants.

Except as specifically provided in this SGA, ETA's acceptance of a proposal and an award of Federal funds to sponsor any program(s) does not provide a waiver of any grant requirements and/or procedures. For example, the OMB Circulars require that an entity's procurement procedures must ensure that all procurement transactions are conducted, as much as practical, to provide open and free competition. If a proposal identifies a specific entity to provide services, the ETA's award does not provide the justification or basis to sole source the procurement, i.e., avoid competition, unless the activity is regarded as the primary work of an official partner to the application.

2. Special Program Requirements

i. Evaluation: To measure the impact of grants funded under the SGA, ETA intends to fund one or more independent evaluations. By accepting funding, grantees must agree to participate in such an evaluation, should they be selected to participate. Grantees must agree to make records on participants, employers, and funding available and to provide access to program personnel and participants, as specified by the evaluator(s) under the direction of ETA, including after the expiration date of the grant.

ii. Definition of Certificate: A certificate is awarded in recognition of an individual's attainment of measurable technical or occupational skills necessary to gain employment or advance within an occupation. These technical or occupational skills are based on standards developed or endorsed by employers. Certificates awarded by workforce investment boards are not included in this definition. Work readiness certificates are also not included in this definition. A certificate is awarded in recognition of an individual's attainment of technical or occupational skills by:

• A State educational agency or a State agency responsible for administering vocational and technical education within a State.

• An institution of higher education described in Section 102 of the Higher Education Act (20 U.S.C. 1002) that is qualified to participate in the student financial assistance programs authorized by Title IV of that Act. This includes community colleges, proprietary schools, and all other institutions of higher education that are eligible to participate in Federal student financial aid programs.

• A professional, industry, or employer organization (e.g., National Institute for Automotive Service Excellence certification, National Institute for Metalworking Skills, Inc., Machining Level I credential) or a product manufacturer or developer (e.g., Microsoft Certified Database Administrator, Certified Novell Engineer, Sun Certified Java Programmer) using a valid and reliable assessment of an individual's knowledge, skills, and abilities.

• A registered apprenticeship program.

• A public regulatory agency, upon an individual's fulfillment of educational, work experience, or skill requirements that are legally necessary for an individual to use an occupational or professional title or to practice an occupation or profession (e.g., FAA aviation mechanic certification, State certified asbestos inspector).

• A program that has been approved by the Department of Veterans Affairs to offer education benefits to veterans and other eligible persons.

• Job Corps centers that issue certificates.

• Institutions of higher education which is formally controlled, or has been formally sanctioned, or chartered, by the governing body of an Indian tribe or tribes.

iii. Definitions of Populations and Other Key Terms

Organizations submitting an application in response to this SGA should use the following definitions for any of the following populations and/or other key terms that are specifically identified in this SGA:

• High school drop-outs: For the purposes of this SGA, ETA defines “high school drop-out” as an individual who is no longer attending any secondary school and who has not received a secondary school diploma or its recognized equivalent.

• Individuals in need of updated training related to the energy efficiency and renewable energy industries: For the purposes of this SGA, this term refers to individuals who are currently employed; or were terminated or laid-off or have received a notice of termination or lay-off from employment; or were self-employed but are now unemployed; and can benefit from training that will help them enter or advance in the energy efficiency and renewable energy industries identified in WIA section 171(e)(1)(B)(ii), and/or will enable them to acquire or enhance skills needed to enter occupations within one or more of the “growth, enhanced, and emerging” green industries referenced in Supplementary Information: Part B of this SGA.

• Individuals, including at-risk youth, seeking employment pathways out of poverty and into economic self-sufficiency: For the purposes of this SGA, ETA defines this term as individuals who reside in high poverty areas (which are areas where the poverty rate is 15% or greater), have no or low incomes, and who can benefit from skill training that will help them enter or advance in the energy efficiency and renewable energy industries identified in WIA section 171(e)(1)(B)(ii), and/or will enable them to acquire or enhance skills needed to enter occupations within one or more of the “growth, enhanced, and emerging” green industries referenced in Supplementary Information: Part B of this SGA.

• Individuals with a criminal record: For the purposes of this SGA, ETA defines this term as an individual who is or has been subject to any stage of the juvenile or criminal justice process, for whom services under this Act may be beneficial; or who requires assistance in overcoming artificial barriers to employment resulting from a record of arrest or conviction. ETA includes individuals with a juvenile or criminal record in the definition for this term.

• Unemployed individuals: For the purposes of this SGA, ETA defines “unemployed individual” as an individual who is without a job and who wants and is available to work.

• Veterans: For the purposes of this solicitation, ETA follows the WIA definition of veteran under 29 U.S.C. 2801(49)(A), which defines the term “veteran” as “an individual who served in the active military, naval, or air service, and who was discharged or released from such service under conditions other than dishonorable.” Active military service includes full-time duty (other than full-time duty for training purposes) in Reserve components ordered to active duty, or in National Guard units called to Federal Service by the President.

• Workers impacted by national energy and environmental policy: For the purposes of this SGA, ETA defines this term as individuals who: (1) Are currently employed in an occupation in the utilities; transportation and warehousing; manufacturing; construction; mining, quarrying, and oil and gas extraction; or other sectors that have been adversely affected by national energy and environmental policies; and have received a notice of termination or lay-off from employment; or (2) were employed in an occupation in the utilities; transportation and warehousing; manufacturing; construction; mining, quarrying, and oil and gas extraction; or other sectors that have been adversely affected by national energy and environmental policies; and are now unemployed.

• National labor-management organization: A national labor-management organization is a nonprofit entity, such as a training fund, training trust fund, or an education trust fund, with joint participation of employers and labor organizations on its executive board or comparable governing body. This entity must have a formalized agreement between the employer(s) and labor organization(s) to operate a joint labor management training program(s) in multiple sites across the country through the state, local, or regional networks affiliated with the nonprofit entity.

3. American Recovery and Reinvestment Act of 2009 (Pub. L. 111-5) Provisions

Prospective applicants are advised that, if they receive an award, they must comply with all requirements of the American Recovery and Reinvestment Act of 2009 [Pub. L. 111-5]. Applicants are advised to review the Act and implementing OMB guidance in the development of their proposals. Requirements include, but are not limited to:

• Adherence to all grant clauses and conditions as they relate to Recovery Act activity.

• Prohibition on expenditure of funds for activities at any casino or other gambling establishment, aquarium, zoo, golf course or swimming pool.

• Compliance with the requirements to obtain a D-U-N-S® Number and register with the Central Contractor Registry (CCR). ETA will issue additional guidance related to this requirement shortly.

• Submission of required reports in accordance with Section 1512 of the Recovery Act. These reports will be due quarterly within 10 days of the end of the reporting period and are in addition to the ETA required reports addressed in Section VI of this SGA. ETA will issue additional guidance related to these reports and their submission requirements shortly.

Implementing OMB guidance may be found at http://www.recovery.gov.

C. Reporting

The grantee is required to provide the reports and documents listed below:

1. Quarterly Financial Reports

A Quarterly Financial Status Report (SF 9130) is required until such time as all funds have been expended or the grant period has expired. Quarterly reports are due 45 days after the end of each calendar year quarter, including the last calendar quarter of the grant period. Grantees must use ETA's On-Line Electronic Reporting System. A Closeout Financial Status Report is due 90 days after the end of the grant period.

2. Quarterly Performance Reports

The grantee must submit a quarterly progress report within 45 days after the end of each calendar year quarter. In order to submit these quarterly reports, grantees will be expected to track participant-level data regarding the individuals that are involved in training and other services provided through the grant and report on participant status in a variety of fields and outcome categories, as well as provide narrative information on the status of the grant. The last quarterly progress report that grantees submit will serve as the grant's Final Performance Report. This report should provide both quarterly and cumulative information on the grant's activities. It must summarize project activities, employment outcomes and other deliverables, and related results of the project, and should thoroughly document the training or labor market information approaches utilized by the grantee. DOL will provide grantees with formal guidance regarding data and other information that is required to be collected and reported on either a regular basis or special request basis. Grantees must agree to meet DOL reporting requirements.

3. Record Retention

Applicants should be aware of Federal guidelines on record retention, which require grantees to maintain all records pertaining to grant activities for a period of not less than three years from the time of final grant close-out.

VII. Agency Contacts

For further information regarding this SGA, please contact Denise Roach, Grants Management Specialist, Division of Federal Assistance, at (202) 693-3820 (This is not a toll-free number). Applicants should e-mail all technical questions to roach.denise@dol.gov and must specifically reference SGA/DFA PY 08-21, and along with question(s), include a contact name, fax and phone number.

This announcement is being made available on the ETA Web site at http://www.doleta.gov/grants and at http://www.grants.gov.

VIII. Additional Resources of Interest to Applicants

A. Other Web-Based Resources

DOL maintains a number of Web-based resources that may be of assistance to applicants. America's Service Locator (http://www.servicelocator.org) provides a directory of our nation's One Stop Career Centers.

B. Industry Competency Models

ETA supports an Industry Competency Model Initiative to promote an understanding of the skill sets and competencies that are essential to an educated and skilled workforce. A competency model is a collection of competencies that taken together define successful performance in a particular work setting. Competency models serve as a starting point for the design and implementation of workforce and talent development programs. To learn about the industry-validated models visit the Competency Model Clearinghouse (CMC) at http://www.careeronestop.org/CompetencyModel. The CMC site also provides tools to build or customize industry models, as well as tools to build career ladders and/or career lattices.

C. Federal Collaboration

DOL encourages other Federal partners to recommend or require, where appropriate, that organizations receiving Recovery Act funding list jobs created with their State public labor exchange. The Department is developing specific strategies to link job listings, training opportunities and placement among programs funded by Departments of Housing and Urban Development, Energy, and Education. Where the grantee is not the public workforce system, they are strongly encouraged to work with the local One Stop Career Centers to make these connections.

D. Links to Federal Recovery Sites

For specific information on a range of Federal agency Recovery Act activities and funding opportunities, please access the following Web sites:

• Department of Education: http://www.ed.gov/policy/gen/leg/recovery/index.html.

• Department of Energy: http://www.doe.gov/recovery.

• Department of Housing and Urban Development: http://www.hud.gov/recovery.

• Department of Transportation: http://www.dot.gov/recovery/.

• Environmental Protection Agency: http://www.epa.gov/recovery.

E. Promising Training Approaches

ETA encourages applicants to research promising training approaches in order to inform their proposals. The following list of Web sites provides a starting place for this research, but by no means should be considered a complete list:

• ETA's home site (http://www.doleta.gov) and the ETA Research Publication Database (wdr.doleta.gov/research/keyword.cfm)

• ETA's knowledge sharing site (http://www.workforce3one.org), including the “workforce solutions” section that contains over 6,000 additional resources applicants may find valuable in developing workforce strategies and solutions

• The National Governors Association Center for Best Practices (http://www.nga.org)

• The National Association of State Workforce Agencies (http://www.workforceatm.org)

• The National Association of Workforce Boards (http://www.nawb.org)

IX. Other Information

OMB Information Collection No. 1225-0086.

Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Department of Labor, in the Office of Management and Budget, Room 10235, Washington, DC 20503. Please do not return the completed application to the OMB. Send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, information submitted in the respondent's application is not considered to be confidential.

Signed at Washington, DC, this 19th day of June, 2009.
B. Jai Johnson,
Grant Officer, Employment and Training Administration.

[FR Doc. E9-14920 Filed 6-23-09; 8:45 am]

BILLING CODE 4510-FN-P